DEPARTMENT OF AGRICULTURE

Agricultural Marketing Service

[Docket No. ST-05-07]

Plant Variety Protection Board; Open Meeting

AGENCY: Agricultural Marketing Service, USDA.

ACTION: Notice of meeting.

SUMMARY: This notice sets forth the schedule and proposed agenda of a forthcoming meeting of the Plant Variety Protection Board.

DATES: October 6, 2005, 8:30 a.m. to 5 p.m., open to the public.

ADDRESSES: The meeting will be held in the United States Department of Agriculture National Agricultural Library, 10301 Baltimore Blvd, Beltsville, Maryland.

FOR FURTHER INFORMATION CONTACT: Mrs. Janice M. Strachan, Plant Variety Protection Office, Science and Technology Program, United States Department of Agriculture, 10301 Baltimore Blvd., Room 401, National Agricultural Library Building, Beltsville, MD 20705-2351, Telephone number (301) 504-5518, fax (301) 504-5291, or e-mail PVPOmail@usda.gov.

SUPPLEMENTARY INFORMATION: Pursuant to the provisions of section 10(a) of the Federal Advisory Committee Act, this notice is given regarding a Plant Variety Protection (PVP) Advisory Board meeting. The board is constituted under section 7 of the PVP Act (7 U.S.C. 2327). The proposed agenda for the meeting will include discussions of: (1) The accomplishments of the PVP Office, (2) the financial status of the PVP Office, (3) E-business update, (4) Use of molecular data as a tool to determine distinctness, uniformity and stability, role of the AMS National Science Laboratory, and accreditation procedures, and (5) other related topics. Upon entering the National Agricultural Library Building, visitors should inform security personnel that they are attending the PVP Advisory Board Meeting. Identification will be required to be admitted to the building. Security personnel will direct visitors to the registration table located outside of Room 1400. Registration upon arrival is necessary for all participants.

If you require accommodations, such as sign language interpreter, please contact the person listed under FOR FURTHER INFORMATION CONTACT. Minutes of the meeting will be available for public review 30 days following the meeting at the address listed under FOR FURTHER INFORMATION CONTACT. The minutes will also be posted on the Internet Web site http://www.ams.usda.gov/science/PVPO/PVPindex.htm.

The agenda for the upcoming meeting will be as follows:

Plant Variety Protection (PVP) 2005 Advisory Board Meeting

Agenda, October 6, 2005

8:30 a.m. to 5 p.m.

Call to Order

Introductions

Opening Remarks

Adoption of Agenda

Adoption of May 2004 Board Meeting Minutes

Appeals to the Secretary of Agriculture

Overview of the PVP Office and PVP Act

PVP Office Accomplishment Report

PVP Office Financial Update

PVP Office E-business Update

Use of Molecular Data in Determinations of Distinctness, Uniformity, and Stability,

Roles of the AMS National Science Laboratory, and Accreditation Procedures

Topics brought forward by Board members

Future Program Activities

Meeting Summary

Adjourn

Dated: September 12, 2005.
Kenneth C. Clayton,
Acting Administrator, Agricultural Marketing Service.

[FR Doc. 05-18378 Filed 9-15-05; 8:45 am]

BILLING CODE 3410-02-P